ENVIRONMENTAL PROTECTION AGENCY

[EPA-R10-OAR-2010-0858; FRL-9294-1]

Agency Information Collection Activities; Submission to OMB for Review and Approval; Comment Request; Federal Implementation Plans Under the Clean Air Act for Indian Reservations in Idaho, Oregon, and Washington

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before May 13, 2011.

ADDRESSES: Submit your comments, identified by Docket ID No. EPA-R10-OAR-2010-0858, to (1) EPA online using http://www.regulations.gov (our preferred method), by email to spenillo.justin@epa.gov, or by mail to: Justin A Spenillo, Environmental Protection Agency Region 10, Office of Air, Waste and Toxics (AWT-107), 1200 Sixth Avenue, Suite 900, Seattle, WA 98101; and (2) OMB by mail to: Office of Information and Regulatory Affairs, Office of Management and Budget (OMB), Attention: Desk Officer for EPA, 725 17th Street, NW., Washington, DC 20503.

FOR FURTHER INFORMATION CONTACT: Justin A Spenillo, Office of Air, Waste and Toxics (AWT-107), Environmental Protection Agency Region 10, 1200 Sixth Avenue, Seattle, WA 98101; telephone number: (206) 553-6125; fax number: (206) 553-0110; e-mail address: spenillo.justin@epa.gov.

SUPPLEMENTARY INFORMATION: EPA has submitted the following ICR to OMB for review and approval according to the procedures prescribed in 5 CFR 1320.12. On October 29, 2010 (75 FR 66754), EPA sought comments on this ICR pursuant to 5 CFR 1320.8(d). EPA received no comments. Any additional comments on this ICR should be submitted to EPA and OMB within 30 days of this notice.

EPA has established a public docket for this ICR under Docket ID No. EPA-R10-OAR-2010-0858, which is available for online viewing at http://www.regulations.gov, or in person viewing during normal business hours at Environmental Protection Agency Region 10, Office of Air, Waste and Toxics (AWT-107), 1200 Sixth Avenue, Seattle, WA.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Federal Implementation Plans under the Clean Air Act for Indian Reservations in Idaho, Oregon, and Washington (Renewal).

ICR number: EPA ICR No. 2020.05, OMB Control No. 2060-0558.

ICR status: This ICR is scheduled to expire on May 31, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: EPA promulgated Federal Implementation Plans (FIPs) under the Clean Air Act for Indian reservations located in Idaho, Oregon, and Washington in 40 CFR part 49 (70 FR 18074, April 8, 2005). The FIPs in the final rule, also referred to as the Federal Air Rules for Indian Reservations in Idaho, Oregon, and Washington (FARR), include information collection requirements associated with the fugitive particulate matter rule in § 49.126, the woodwaste burner rule in § 49.127; the rule for limiting sulfur in fuels in § 49.130; the rule for open burning in § 49.131; the rules for general open burning permits, agricultural burning permits, and forestry and silvicultural burning permits in §§ 49.132, 49.133, and 49.134; the registration rule in § 49.138; and the rule for non-Title V operating permits in § 49.139. EPA uses this information to manage the activities and sources of air pollution on the Indian reservations in Idaho, Oregon, and Washington. EPA believes these information collection requirements are appropriate because they will enable EPA to develop and maintain accurate records of air pollution sources and their emissions, track emissions trends and changes, identify potential air quality problems, allow EPA to issue permits or approvals, and ensure appropriate records are available to verify compliance with these FIPs. The information collection requirements listed above are all mandatory. Regulated entities can assert claims of business confidentiality and EPA will address these claims in accordance with the provisions of 40 CFR part 2, subpart B.

Burden Statement: The annual public reporting and recordkeeping burden for this collection of information is estimated to average 3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action include owners and operators of emission sources in all industry groups and tribal, Federal, and local governments, located on the identified Indian reservations.

Estimated Number of Respondents: 1,694.

Frequency of Response: Annually and on occasion.

Estimated Total Annual Hour Burden: 6,245.

Estimated Total Annual Cost: $396,245. This includes an estimated labor cost of $396,245. Capital investment and operation and maintenance costs are assumed to be zero.

Changes in the estimates: There is an increase of 1,956 hours in the total estimated burden currently identified in the OMB Inventory of Approved ICR Burdens. This increase is the result of a number of changes. It reflects adjustments to the burden estimates for this collection using consultation input, historical data, and experience with implementing the FARR. Some components of the burden estimates increased and some components decreased. In most cases, the burden estimates increased based on input from the source consultations. For some provisions the estimates of the number of respondents increased. Some estimates changed based on additional information EPA has gained through implementing the rules.

Dated: April 6, 2011.
John Moses,
Director, Collection Strategies Division.

[FR Doc. 2011-8868 Filed 4-12-11; 8:45 am]

BILLING CODE 6560-50-P